FEDERAL COMMUNICATIONS COMMISSION

47 CFR Part 95

[ET Docket No.08-59; FCC 12-54]

Medical Body Area Networks; Correction

AGENCY: Federal Communications Commission.

ACTION: Final rule; correction.

SUMMARY: In this document, the Federal Communications Commission (Commission) corrects a document published December 27, 2013. The DATES and SUPPLEMENTARY INFORMATION sections contain an incorrect Federal Register citation.

DATES: Effective January 16, 2014, and applicable beginning December 27, 2013.

FOR FURTHER INFORMATION CONTACT: Nancy Brooks, Policy and Rules Division, Office of Engineering and Technology, (202) 418-2454, email Nancy.Brooks@fcc.gov.

SUPPLEMENTARY INFORMATION:

Background

The final rules that are the subject of this correction relate to “Medical Body Area Networks” under 47 CFR 95.1215(c), 95.1217(a)(3), 95.1223 and 95.1225 of the rules.

Correction

In FR Doc. 2013-30649, published on December 27, 2013, on page 78769, in the second column, correct the Federal Register citation in the DATES and SUPPLEMENTARY INFORMATION sections to read as “77 FR 55715, September 11, 2012”.

Federal Communications Commission.
Marlene H. Dortch,
Secretary, Office of the Secretary, Office of Managing Director.

[FR Doc. 2014-00670 Filed 1-15-14; 8:45 am]

BILLING CODE 6712-01-P